DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: SAMHSA Application for Peer Grant Reviewers (OMB No. 0930-0255)—Revision

Section 501(h) of the Public Health Service (PHS) Act (42 U.S.C. 290aa) directs the Assistant Secretary of the Substance Abuse and Mental Health Services Administration (SAMHSA) to establish such peer review groups as are needed to carry out the requirements of Title V of the PHS Act. SAMHSA administers a large discretionary grants program under authorization of Title V, and, for many years, SAMHSA has funded grants to provide prevention and treatment services related to substance abuse and mental health.

In support of its grant peer review efforts, SAMHSA desires to continue to expand the number and types of reviewers it uses on these grant review committees. To accomplish that end, SAMHSA has determined that it is important to proactively seek the inclusion of new and qualified representatives on its peer review groups. Accordingly, SAMHSA has developed an application form for use by individuals who wish to apply to serve as peer reviewers.

The application form has been developed to capture the essential information about the individual applicants. The most consistent method to accomplish this is through completion of a standard form by all interested persons which captures information about knowledge, education, and experience in a consistent manner from all interested applicants. SAMHSA will use the information provided on the applications to identify appropriate peer grant reviewers. Depending on their experience and qualifications, applicants may be invited to serve as grant reviewers.

The following changes are proposed in the form:

• Added the collection of License # and Expiration Date to meet 21st Century CURES Act requirements.

• Deleted the collection of experienced federal reviewer or non-federal reviewer information.

• Under No SAMHSA Experience section, added collection of whether or not the potential reviewer had completed SAMHSA reviewer training with the date.

Under the Target Population Section

—Added the following distinctions:

Tribes or Tribal Organizations

Minorities (African American, Hispanic/Latino, etc)

Under the Substance Abuse and Clinical Issues Section

—Added the following distinctions:

Medication Assisted Treatment

Emergency Treatment

Opioid Use Disorders

—Deleted the following distinctions:

Depression/Manic Depression

Ecstasy

Fetal Alcohol Syndrome

Obsessive Compulsive Disorder

Personality Disorders

Under the Other Expertise Section

—Added the following distinctions:

Recovery Support Services

Behavioral Healthcare

Rural Communities

—Deleted the following distinctions:

Faith Based Community Approaches

Violence Prevention Programs

Drug Courts

The following table shows the annual response burden estimate.

Number of respondents | Responses/respondent | Burden/responses (hours) | Total burden hours
500 | 1 | 1.5 | 750

Written comments and recommendations concerning the proposed information collection should be sent by September 9, 2019 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2019-16986 Filed 8-7-19; 8:45 am]

BILLING CODE 4162-20-P